ENVIRONMENTAL PROTECTION AGENCY

[EPA-HQ-OLEM-2022-0174; FRL 12525-01-OLEM]

Accidental Release Prevention Requirements: Risk Management Programs Under the Clean Air Act; Safer Communities by Chemical Accident Prevention; Final Action on Petition for Reconsideration

AGENCY: Environmental Protection Agency (EPA).

ACTION: Notice of final action denying petition for reconsideration.

SUMMARY: The U.S. Environmental Protection Agency (EPA) received a petition for reconsideration of the final revisions to the Accidental Release Prevention Requirements: Risk Management Programs Under the Clean Air Act; Safer Communities by Chemical Accident Prevention, published in the Federal Register on March 11, 2024. The agency is providing notice that it is denying the petition for reconsideration. The basis for EPA's action is set out fully in a letter addressed to the petitioner, available in the rulemaking docket.

DATES: December 30, 2024.

FOR FURTHER INFORMATION CONTACT: Kristina Guarino, United States Environmental Protection Agency, Office of Land and Emergency Management, 1200 Pennsylvania Ave. NW (Mail Code 5104A), Washington, DC 20460; telephone number: (202) 566-1235; email address: guarino.kristina@epa.gov.

SUPPLEMENTARY INFORMATION:

I. How can I get copies of this document and other related information?

A copy of this Federal Register notice, the petition for reconsideration, and the letter describing the full basis for this action are available in the rulemaking docket (Docket ID No. EPA-HQ-OLEM-2022-0174). Publicly available docket materials are available electronically through www.regulations.gov. In addition, following signature, an electronic copy of this final action and the letter will be available on the internet at https://www.epa.gov/rmp/risk-management-program-safer-communities-chemical-accident-prevention-final-rule. Publicly available docket materials are available either electronically at https://www.regulations.gov or in hard copy at the Environmental Protection Agency, EPA Docket Center, William Jefferson Clinton West Building, Room 3334, 1301 Constitution Ave. NW, Washington, DC. The Public Reading Room is open from 8:30 a.m. to 4:30 p.m., Monday through Friday, excluding legal holidays. The telephone number for the Public Reading Room is (202) 566-1744. For further information on EPA Docket Center services and the current status, please visit https://www.epa.gov/dockets.

II. Judicial Review

Section 307(b)(1) of the CAA indicates which Federal Courts of Appeal have venue for petitions of review of final actions by the EPA. This section provides, in part, that “a petition for review of action of the Administrator in promulgating . . . any standard of performance or requirement under section [111] of [the CAA],” or any other “nationally applicable” final action, “may be filed only in the United States Court of Appeals for the District of Columbia.” The EPA has determined that its action denying the petition for reconsideration is nationally applicable for purposes of CAA section 307(b)(1) because the action directly relates to the Risk Management Program regulations promulgated under CAA section 112(r), which are nationally applicable requirements. Thus, any petition for review of the final letter denying the petition for reconsideration must be filed in the Court of Appeals for the District of Columbia Circuit on or before February 28, 2025.

Michael S. Regan,
Administrator.

[FR Doc. 2024-31216 Filed 12-27-24; 8:45 am]

BILLING CODE 6560-50-P